DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its [Portfolio Analysis and Management System], OMB Control Number 1910-5178. The proposed collection will continue to allow for the automation and streamlining of submissions while facilitating the correspondence portion of financial award pre review processes. The information collected will be used by DOE to select applicants and projects for financial awards.

DATES: Comments regarding this collection must be received on or before April 4, 2019. If you anticipate that you will be submitting comments, but find it difficult to do so within the period of time allowed by this notice, please advise the OMB Desk Officer of your intention to make a submission as soon as possible. The Desk Officer may be telephoned at (202) 395-4718.

ADDRESSES: Written comments should be sent to DOE Desk Officer, Office of Information and Regulatory Affairs, Office of Management and Budget, New Executive Office Building, Room 10102, 735 17th Street NW, Washington, DC 20503.

and to:

Courtney A. Bracey, Office of Information Technology and Services, Office of Science, U.S. Department of Energy, SC-45/GTN, 1000 Independence Avenue SW, Washington, DC 20585, Direct: (301) 903.1844, Fax: (301) 903-2481, Courtney.Bracey@science.doe.gov

FOR FURTHER INFORMATION CONTACT: Courtney Bracey (301) 903-1844 or Courtney.Bracey@science.doe.gov. The collection instrument can be viewed at the following website https://lpamspublic.science.energy.gov.

SUPPLEMENTARY INFORMATION: This information collection request contains:

(1) OMB No.: 1910-5178; (2) Information Collection Request Title: Portfolio Analysis and Management System; (3) Type of Request: Renewal; (4) Purpose: This existing collection is based on the Health Resources and Services Administration (HRSA) Electronic Handbooks software. Discretionary financial assistance proposals continue to be collected using Grants.gov but are imported into PAMS for use by the program offices. Under the existing information collection, an external interface in PAMS allows two other types of proposal submission: DOE National Laboratories are able to submit proposals for technical work authorizations directly into PAMS, while other Federal Agencies will be able to submit Proposals for interagency awards directly into PAMS. External users from all institution types are able to submit Solicitation Letters of Intent and Pre-proposals directly into PAMS. All applicants, whether they submitted through Grants.gov or PAMS, are able to register with PAMS to view the proposals that were submitted. They also are able to maintain a minimal amount of information in their personal profile. The existing collection automates and streamlines the submission, tracking, and correspondence portions of financial award pre-review processes.

The information collected is used by DOE to select applicants and projects for financial awards; (5) Annual Estimated Number of Respondents: 20,600; (6) Annual Estimated Number of Total Responses: 20,600; (7) Annual Estimated Number of Burden Hours: 30,150 (8) Annual Estimated Reporting and Recordkeeping Cost Burden: $149,000.

Statutory Authority: Section 641 of the Department of Energy Organization Act, codified at 42 U.S.C. 7251.

Signed in Washington, DC on January 31, 2019.
Vasilios Kountouris,
Director, Office of Information Technology and Services, Office of Science.

[FR Doc. 2019-03921 Filed 3-4-19; 8:45 am]

BILLING CODE 6450-01-P